DEPARTMENT OF COMMERCE

Patent and Trademark Office

Agency Information Collection Activities; Submission to the Office of Management and Budget (OMB) for Review and Approval; Comment Request; Public Search Facility User ID and Badging

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on May 13 during a 60-day comment period (89 FR 41395). This notice allows for an additional 30 days for public comment.

Agency: United States Patent and Trademark Office, Department of Commerce.

Title: Public Search Facility User ID and Badging.

OMB Control Number: 0651-0041.

Needs and Uses: The United States Patent and Trademark Office (USPTO) is required by 35 U.S.C. 41(i)(1) to maintain a Public Search Facility to make publicly accessible USPTO patent and trademark collections for search and retrieval. The Public Search Facility is located in a publicly accessible portion of USPTO headquarters in Alexandria, Virginia, and offers the public access to the collection's paper, microfilm, and electronic files and trained staff to assist users with searches.

This information collection covers the application used to establish, renew, or replace security identification badges issued to members of the public who wish to access the Public Search Facility. Users can apply for a security badge in-person at the USPTO Security Office by providing the necessary information and presenting a valid form of photo identification. The issued security badges include a color photograph of the user and must be worn at all times while within the USPTO facility. Issued badges are valid for one year and can be renewed at no cost. Lost badges can be replaced at a cost of $15. Public users are not required to obtain a security identification badge to access the Public Search Facility. Alternatively, public users can fill out a visitor badge request upon visiting the library. The process for obtaining a visitor badge is exempt from the Paperwork Reduction Act (PRA). The visitor badge must be turned in each time the user leaves the library. Re-entry requires obtaining a new visitor badge. However, using a security identification badge issued to a public user allows that individual to leave and re-enter the library without needing to obtain a visitor badge. Public users only need to obtain either the visitor badge or a security identification badge to enter the Public Search Facility; they do not need both simultaneously.

Previously, the Public Search Facility collected information from the public to establish and maintain accounts for online access to USPTO resources and to register the public for user trainings. Instead of using unique accounts for the Public Search Facility, access is now automatically provided through MyUSPTO accounts. Registrations for training are no longer required as trainings are now provided on demand via self-service online platforms. As a result, the USPTO is removing the information collection lines for online access accounts and user training registrations from this information collection as a part of this renewal.

Previously in the 60-Day Federal Register Notice, the USPTO listed the estimated total annual respondent burden as 6 hours. The USPTO now corrects this estimate to 5 hours of annual burden.

Forms:

• PTO Form 2030 (Application for Public User ID)

Type of Review: Extension and revision of a currently approved information collection.

Affected Public: Individuals or households.

Respondent's Obligation: Required to obtain or retain benefits.

Frequency: On occasion.

Estimated Number of Annual Respondents: 60 respondents.

Estimated Number of Annual Responses: 60 responses.

Estimated Time per Response: The USPTO estimates that the responses in this information collection will take the public approximately 5 minutes (0.08 hours) to complete. This includes the time to gather the necessary information, create the document, and submit the completed request to the USPTO.

Estimated Total Annual Respondent Burden Hours: 5 hours.

Estimated Total Annual Respondent Non-Hourly Cost Burden: $75.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0041.

Further information can be obtained by:

• Email: InformationCollection@uspto.gov. Include “0651-0041 information request” in the subject line of the message.

• Mail: Justin Isaac, Office of the Chief Administrative Officer, United States Patent and Trademark Office, P.O. Box 1450, Alexandria, VA 22313-1450.

Lisa Lawn,
Director, Records and Information Compliance Program Office, Office of the Chief Administrative Officer, United States Patent and Trademark Office.

[FR Doc. 2024-15870 Filed 7-17-24; 8:45 am]

BILLING CODE 3510-16-P